DEPARTMENT OF COMMERCE

International Trade Administration

[A-552-801]

Certain Frozen Fish Fillets From the Socialist Republic of Vietnam: Preliminary Results of Antidumping Duty Administrative Review, Preliminary Determination of No Shipments, and Partial Rescission of Antidumping Duty Administrative Review; 2020-2021

AGENCY: Enforcement and Compliance, International Trade Administration, Department of Commerce.

SUMMARY: The Department of Commerce (Commerce) preliminarily determines that 15 companies had no shipments of certain frozen fish fillets from the Socialist Republic of Vietnam (Vietnam) during the period of review (POR), August 1, 2020, through July 31, 2021. Commerce also preliminarily determines that one company subject to this review is part of the Vietnam-wide entity because it did not demonstrate eligibility for a separate rate. Finally, Commerce is rescinding this review with respect to 66 companies and the Vietnam entity. We invite interested parties to comment on these preliminary results.

DATES: Applicable May 12, 2022.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On October 7, 2021, Commerce initiated this administrative review with respect to 82 companies and the Vietnam-wide entity.¹

¹ See Initiation of Antidumping and Countervailing Duty Administrative Reviews, 86 FR 55811 (October 7, 2021) (Initiation Notice). We note that the notice lists 83 companies; however, “Hung Vuong Joint Stock Company” is an AKA name for Hung Vuong Corporation, and was inadvertently listed separately in the Initiation Notice.

On October 19, 2021, we provided U.S. Customs and Border Protection (CBP) entry data under administrative protective order (APO) to all interested parties having APO access.² On October 26, 2021, we received comments from the petitioners ³ on the CBP data.⁴

² See Memorandum, “U.S. Customs and Border Protection Data Query,” dated October 19, 2021 (CBP Data Query).

³ The petitioners are: The Catfish Farmers of America and individual U.S. catfish processors America's Catch, Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm Raised Catfish, Inc. (collectively, the petitioners).

⁴ See Petitioners' Letter, “Certain Frozen Fish Fillets from the Socialist Republic of Vietnam: Comments on Respondent Selection and CBP Data,” dated October 26, 2021.

In October and November 2021, 15 companies filed no-shipment certifications.⁵ In January 2022, all parties withdrew their requests for review for 66 companies and the Vietnam-wide entity.

⁵ For a list of these companies, see Appendix III.

For a complete description of the events that followed the initiation of this administrative review, see the Preliminary Decision Memorandum.⁶ A list of topics included in the Preliminary Decision Memorandum is provided in Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be found at https://access.trade.gov/public/FRNoticesListLayout.aspx. The signed and the electronic versions of the Preliminary Decision Memorandum are identical in content.

⁶ See Memorandum, “Decision Memorandum for the Preliminary Results of the 2020-2021 Antidumping Duty Administrative Review: Certain Frozen Fish Fillets from the Socialist Republic of Vietnam,” dated concurrently with, and hereby adopted by, this notice (Preliminary Decision Memorandum).

Scope of the Order

The product covered by the order is certain frozen fish fillets from Vietnam. A full description of the scope of the order is contained in the Preliminary Decision Memorandum.⁷

⁷ Id.

Partial Rescission of Administrative Review

This administrative review covers 82 companies and the Vietnam-wide entity.⁸ Pursuant to 19 CFR 351.213(d)(1), Commerce will rescind an administrative review, in whole or in part, if the party that requested a review withdraws the request within 90 days of the date of publication of the notice of initiation. As noted above, all interested parties timely withdrew their requests for review of 66 of the companies requested and the Vietnam-wide entity. Accordingly, Commerce is rescinding this review with respect to these 66 companies and the Vietnam-wide entity, in accordance with 19 CFR 351.213(d)(1).⁹ The review will continue with respect to the other firms for which a review was requested and initiated. For additional information, see the Preliminary Decision Memorandum.

⁸ See Initiation Notice.

⁹ See Appendix II for a list of companies for which we are rescinding this review.

Preliminary Determination of No Shipments

Based upon the no-shipment certifications received by Commerce, and our review of the CBP data, we preliminarily find that 15 companies had no shipments during the POR. Commerce requested that CBP confirm whether any shipments of subject merchandise entered the United States during the POR with respect to the 15 companies that submitted no-shipment claims, and CBP responded that it has no record of any subject entries for these 15 exporters.¹⁰ Based on the record evidence submitted, we preliminarily determine that these 15 companies had no shipments during the POR. For additional information regarding this determination, see the Preliminary Decision Memorandum. Consistent with our practice in non-market economy (NME) administrative reviews,¹¹ Commerce is not rescinding this review for these 15 companies.¹² Commerce intends to complete this review and issue appropriate instructions to CBP based on the final results of this review.

¹⁰ See Memorandum, “No Shipment Inquiries for various companies during the period 08/01/2020 through 07/31/2021,” dated March 23, 2022.

¹¹ See Non-Market Economy Antidumping Proceedings: Assessment of Antidumping Duties, 76 FR 65694, 65694-95 (October 24, 2011); see also “Assessment Rate” section below.

¹² See Appendix III.

Separate Rates

Hoa Phat Seafood Import-Export and Processing J.S.C. (Hoa Phat) ¹³ did not file a separate rate application, separate rate certification, or a no-shipments certification. Accordingly, Commerce preliminarily determines that Hoa Phat has not established eligibility for a separate rate and is, therefore, part of the Vietnam-wide entity. For additional information, see the Preliminary Decision Memorandum.

¹³ As noted in the Initiation Notice, this company is also known as: HOPAFISH; Hoa Phat Seafood Import-Export and Processing Joint Stock Company; and Hoa Phat Seafood Import-Export and Processing JSC.

Vietnam-Wide Entity

Commerce's policy regarding conditional review of the Vietnam-wide entity applies to this administrative review.¹⁴ Under this policy, the Vietnam-wide entity will not be under review unless a party specifically requests, or Commerce self-initiates, a review of the Vietnam-wide entity.¹⁵ Because the sole review request for the Vietnam-wide entity has been withdrawn, the Vietnam-wide entity is not under review and the Vietnam-wide entity's rate (i.e., $2.39 per kilogram) is not subject to change.¹⁶ For additional information, see the Preliminary Decision Memorandum.

¹⁴ See Antidumping Proceedings: Announcement of Change in Department Practice for Respondent Selection in Antidumping Duty Proceedings and Conditional Review of the Nonmarket Economy Entity in NME Antidumping Duty Proceedings, 78 FR 65963 (November 4, 2013).

¹⁵ Id.

¹⁶ Id.

Public Comment

Interested parties are invited to comment on the preliminary results and may submit case briefs and/or written comments, filed electronically via Enforcement and Compliance's Antidumping Duty and Countervailing Duty Centralized Electronic Service System (ACCESS), no later than 30 days after the date of publication of this notice.¹⁷ Rebuttal briefs, limited to issues raised in the case briefs, must be filed within seven days after the time limit for filing case briefs.¹⁸ Parties who submit case or rebuttal briefs in this proceeding are requested to submit with each argument a statement of the issue, a brief summary of the argument, and a table of authorities.¹⁹ Note that Commerce has temporarily modified certain portions of its requirements for serving documents containing business proprietary information, until further notice.²⁰

¹⁷ See 19 CFR 351.309(c)(1)(ii).

¹⁸ See 19 CFR 351.309(d)(1) and (2); see also Temporary Rule Modifying AD/CVD Service Requirements Due to COVID-19; Extension of Effective Period, 85 FR 41363 (July 10, 2020) (Temporary Rule).

¹⁹ See 19 CFR 351.309(c) and (d); see also 19 CFR 351.303 (for general filing requirements).

²⁰ See Temporary Rule.

Interested parties who wish to request a hearing must submit a written request to Commerce within 30 days of the date of publication of this notice.²¹ Requests should contain: (1) The party's name, address, the telephone number; (2) the number of participants; and (3) a list of issues to be discussed. Issues raised in the hearing will be limited to those raised in the respective case and rebuttal briefs. If a request for a hearing is made, parties will be notified of the time and date for the hearing to be held.²²

²¹ See 19 CFR 351.310(c).

²² See 19 CFR 310(d).

Commerce intends to issue the final results of this administrative review, which will include the results of our analysis of all issues raised in the case briefs, no later than 120 days after publication of these preliminary results in the Federal Register, unless extended, pursuant to section 751(a)(3)(A) of the Act.

Assessment Rates

Upon issuance of the final results of this review, Commerce will determine, and CBP will assess, antidumping duties on all appropriate entries covered by this review.²³ Pursuant to Commerce's practice in NME cases, if we continue to determine in the final results that the 15 companies listed in Appendix III had no shipments of subject merchandise, any suspended entries of subject merchandise during the POR from these companies will be liquidated at the Vietnam-wide rate.²⁴ For the remaining company subject to this review, Hoa Phat, which is part of the Vietnam-wide entity, we will instruct CBP to liquidate its entries at the current rate for the Vietnam-wide entity (i.e., $2.39 per kilogram).

²³ See 19 CFR 351.212(b)(1).

²⁴ For a full discussion of this practice, see Non-Market Economy Antidumping Proceedings: Assessment of Antidumping Duties, 76 FR 65694 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of review, as provided for by section 751(a)(2)(C) of the Act: (1) The cash deposit rates for the 15 companies in Appendix III will remain unchanged from the rates assigned to them in the most recently-completed segment for each company, as applicable; (2) for previously investigated or reviewed Vietnamese and non-Vietnamese exporters who are not under review in this segment of the proceeding but have separate rates, their cash deposit rate will continue to be the exporter-specific rate published for the most recently-completed segment of this proceeding; (3) for all Vietnamese exporters of subject merchandise that have not been found to be entitled to a separate rate (including Hoa Phat), the cash deposit rate will be Vietnam-wide rate of $2.39 per kilogram; and (4) for all non-Vietnamese exporters of subject merchandise that have not received their own rate, the cash deposit rate will be the rate applicable to Vietnamese exporter(s) that supplied that non-Vietnamese exporter. These deposit requirements, when imposed, shall remain in effect until further notice.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These preliminary results of review are issued and published in accordance with sections 751(a)(1) and 777(i)(1) of the Act and 19 CFR 351.221(b)(4).

Dated: May 3, 2022.
Lisa W. Wang,
Assistant Secretary for Enforcement and Compliance.

Appendix I—List of Topics Discussed in the Preliminary Decision Memorandum

I. Summary

II. Background

III. Scope of the Order

IV. Discussion of the Methodology

V. Recommendation

Appendix II—Companies for Which We Are Rescinding the Review

1. An Chau Co., Ltd.

2. An Giang Agriculture and Food Import-Export Joint Stock Company (also known as Afiex or An Giang Agriculture and Foods Import-Export Joint Stock Company)

3. An My Fish Joint Stock Company (also known as Anmyfish or Anmyfishco)

4. An Phat Import-Export Seafood Co., Ltd. (also known as An Phat Seafood Co. Ltd. or An Phat Seafood, Co., Ltd.)

5. An Phu Seafood Corp. (also known as ASEAFOOD or An Phu Seafood Corp.)

6. Anchor Seafood Corp.

7. Anvifish Joint Stock Company (also known as Anvifish, Anvifish JSC, or Anvifish Co., Ltd.)

8. Asia Commerce Fisheries Joint Stock Company (also known as Acomfish JSC or Acomfish)

9. Basa Joint Stock Company (also known as BASACO)

10. Ben Tre Aquaproduct Import and Export Joint Stock Company (Bentre Aquaproduct)

11. Bentre Forestry and Aquaproduct Import Export Joint Stock Company (Bentre Forestry and Aquaproduct Import and Export Joint Stock Company)

12. Bien Dong Hau Giang Seafood Joint Stock Company (also known as Bien Dong HG or Bien Dong Hau Giang Seafood Joint Stock Co.)

13. Bien Dong Seafood Company Ltd. (also known as Bien Dong, Bien Dong Seafood, Bien Dong Seafood Co., Ltd., Biendong Seafood Co., Ltd., or Bien Dong Seafood Limited Liability Company)

14. Binh An Seafood Joint Stock Company (also known as Binh An or Binh An Seafood Joint Stock Co.)

15. Binh Dinh Import Export Company (also known as Binh Dinh Import Export Joint Stock Company, or Binh Dinh)

16. Cadovimex II Seafood Import-Export and Processing Joint Stock Company (also known as Cadovimex II, Cadovimex II Seafood Import Export and Processing Joint Stock Company, or Cadovimex II Seafood Import-Export)

17. Can Tho Animal Fishery Products Processing Export Enterprise

18. Cantho Import-Export Seafood Joint Stock Company (also known as CASEAMEX, Cantho Import Export Seafood Joint Stock Company, Cantho Import-Export Joint Stock Company, Can Tho Import Export Seafood Joint Stock Company, Can Tho Import-Export Seafood Joint Stock Company, or Can Tho Import-Export Joint Stock Company)

19. Cavina Seafood Joint Stock Company (also known as Cavina Fish)

20. Colorado Boxed Beef Company (also known as CBBC)

21. Coral Triangle Processors (dba Mowi Vietnam Co., Limited (Dong Nai))

22. Cuu Long Fish Import-Export Corporation (also known as CL Panga Fish)

23. Cuu Long Fish Joint Stock Company (also known as CL-Fish, CL-FISH CORP, or Cuu Long Fish Joint Stock Company)

24. Da Nang Seaproducts Import-Export Corporation (also known as SEADANANG, Da Nang or Da Nang Seaproducts Import/Export Corp.)

25. East Sea Seafoods LLC (also known as East Sea Seafoods Limited Liability Company, ESS LLC, ESS, ESS JVC, or East Sea Seafoods Joint Venture Co., Ltd.)

26. GF Seafood Corp.

27. Go Dang An Hiep One Member Limited Company

28. Go Dang Ben Tre One Member Limited Liability Company

29. GreenFeed Vietnam Corporation

30. Hai Thuan Nam Co Ltd.

31. Hiep Thanh Seafood Joint Stock Company (also known as Hiep Thanh or Hiep Thanh Seafood Joint Stock Co.)

32. Hoang Long Seafood Processing Company Limited (also known as HLS, Hoang Long, Hoang Long Seafood, HoangLong Seafood, or Hoang Long Seafood Processing Co., Ltd.)

33. Hung Vuong Seafood Joint Stock Company

34. Hung Vuong-Mien Tay Aquaculture Corporation (HVMT or Hung Vuong Mien Tay Aquaculture Joint Stock Company)

35. Indian Ocean One Member Company Limited (also known as Indian Ocean Co., Ltd.)

36. International Development & Investment Corporation (also known as IDI or International Development and Investment Corporation, International Development & Investment Corporation or IDI International Development & Investment Corporation)

37. Lian Heng Investment Co. Ltd. (also known as Lian Heng or Lian Heng Investment)

38. Lian Heng Trading Co. Ltd. (also known as Lian Heng or Lian Heng Trading)

39. Nam Phuong Seafood Co., Ltd. (also known as Nam Phuong, NAFISHCO, Nam Phuong Seafood, or Nam PhuongSeafood Company Ltd.)

40. New Food Import, Inc.

41. Ngoc Ha Co. Ltd. Food Processing and Trading (also known as Ngoc Ha or Ngoc Ha Co., Ltd. Foods Processing and Trading)

42. Nguyen Tran Seafood Company (also known as Nguyen Tran J-S Co)

43. Nha Trang Seafoods, Inc. (also known as Nha Trang Seafoods, Nha Trang Seafoods-F89, or Nha Trang Seaproduct Company)

44. NTACO Corporation (also known as NTACO or NTACO Corp.)

45. NTSF Seafoods Joint Stock Company (also known as NTSF or NTSF Seafoods)

46. Phu Thanh Hai Co. Ltd. (also known as PTH Seafood)

47. PREFCO Distribution, LLC

48. QMC Foods, Inc.

49. Quang Minh Seafood Company Limited (also known as Quang Minh, Quang Minh Seafood Co., Ltd., or Quang Minh Seafood Co.)

50. Quirch Foods, LLC

51. Riptide Foods

52. Saigon-Mekong Fishery Co., Ltd. (also known as SAMEFICO or Saigon Mekong Fishery Co., Ltd.)

53. Seafood Joint Stock Company No. 4 (also known as SEAPRIEXCO No. 4)

54. Seafood Joint Stock Company No. 4 Branch Dongtam Fisheries Processing Company (also known as DOTASEAFOODCO or Seafood Joint Stock Company No. 4—Branch Dong Tam Fisheries Processing Company)

55. Seavina Joint Stock Company (also known as Seavina)

56. Sunrise Corporation

57. TG Fishery Holdings Corporation (also known as TG)

58. Thanh Hung Co., Ltd. (also known as Thanh Hung Frozen Seafood Processing Import Export Co., Ltd. or Thanh Hung)

59. The Great Fish Company, LLC

60. Thien Ma Seafood Co., Ltd. (also known as THIMACO, Thien Ma, Thien Ma Seafood Company, Ltd., or Thien Ma Seafoods Co., Ltd.)

61. Thuan An Production Trading and Service Co., Ltd. (also known as TAFISHCO, Thuan An Production Trading and Services Co., Ltd., or Thuan An Production Trading & Service Co., Ltd.)

62. Thuan Phuoc Seafoods and Trading Corporation

63. Viet Phu Foods & Fish Co., Ltd.

64. Viet Phu Foods and Fish Corporation (also known as Vietphu, Viet Phu, Viet Phu Food and Fish Corporation, or Viet Phu Food & Fish Corporation)

65. Vietnam Seaproducts Joint Stock Company (also known as Seaprodex or Vietnam Seafood Corporation—Joint Stock Company)

66. Vinh Long Import-Export Company (also known as Vinh Long, Imex Cuu Long, Vinh Long Import/Export Company)

67. Vietnam-Wide Entity

Appendix III—Companies With No Shipments During the POR

1. C.P. Vietnam Corporation

2. CAFATEX Corporation (also known as Cafatex)

3. Dai Thanh Seafoods Company Limited (also known as DATHACO, Dai Thanh Seafoods or Dai Thanh Seafoods Co., Ltd.)

4. Fatifish Company Limited (also known as FATIFISH or FATIFISHCO)

5. GODACO Seafood Joint Stock Company (also known as GODACO, GODACO Seafood, GODACO SEAFOOD, GODACO_SEAFOOD, or GODACO Seafood J.S.C.)

6. Golden Quality Seafood Corporation (also known as Golden Quality, GoldenQuality, GOLDENQUALITY, or GoldenQuality Seafood Corporation)

7. Green Farms Seafood Joint Stock Company (also known as Green Farms, Green Farms Seafood JSC, GreenFarm SeaFoods Joint Stock Company, or Green Farms Seafoods Joint Stock Company)

8. Hai Huong Seafood Joint Stock Company (also known as HHFish, HH Fish, or Hai Huong Seafood)

9. Hung Vuong Group ²⁵

²⁵ Hung Vuong Group is a single entity comprised of the following individual companies: (1) An Giang Fisheries Import and Export Joint Stock Company (also known as Agifish, AnGiang Fisheries Import and Export, An Giang Fisheries Import & Export Joint Stock Company); (2) Asia Pangasius Company Limited (also known as ASIA); (3) Hung Vuong Ben Tre Seafood Processing Company Limited (also known as Ben Tre, H also known as Ben Tre, HVBT, or HVBT Seafood Processing VBT, or HVBT Seafood Processing); (4) Europe Joint Stock Company (also known as Europe JSC or EJS CO.); (5) Hung Vuong Corporation (also known as HVC, HV Corp. or Hung Vuong Joint Stock Company); (6) Hung Vuong-Sa Dec Co., Ltd. (also known as Hung Vuong-Sa Dec Co., Ltd. or Hung Vuong Sa Dec Company Limited); (7) Hung Vuong-Vinh Long Co. Ltd. (also known as Hung Vuong-Vinh Long Co., Ltd. or Hung Vuong Vinh Long Company Limited); and (8) Hung Vuong Mascato Company Limited. Hung Vuong Joint Stock Company was listed separately in the Initiation Notice. However, this company is an AKA name for Hung Vuong Corporation.

10. Nam Viet Corporation (also known as NAVICO)

11. QVD Food Company Ltd. (aka QVD, QVD Food Co., Ltd., or QVD Aquaculture) ²⁶

²⁶ QVD is a single entity that also includes QVD Dong Thap Food Co., Ltd. (also known as Dong Thap or QVD DT) and Thuan Hung Co., Ltd. (also known as THUFICO).

12. Southern Fishery Industries Company, Ltd. (also known as South Vina, South Vina Co., Ltd., Southern Fishery Industries Co., Ltd., Southern Fisheries Industries Company, Ltd., or Southern Fisheries Industries Company Limited)

13. To Chau Joint Stock Company (also known as TOCHAU, TOCHAU JSC, or TOCHAU Joint Stock Company)

14. Viet Hai Seafood Company Limited (also known as Viet Hai, Viet Hai Seafood Co., Ltd., Viet Hai Seafood Co., Vietnam Fish-One Co., Ltd., or Fish One)

15. Vinh Quang Fisheries Corporation (also known as Vinh Quang, Vinh Quang Fisheries Corp., Vinh Quang Fisheries Joint Stock Company, or Vinh Quang Fisheries Co., Ltd.)

[FR Doc. 2022-10154 Filed 5-11-22; 8:45 am]

BILLING CODE 3510-DS-P